DEPARTMENT OF HEALTH AND HUMAN SERVICES

Centers for Medicare & Medicaid Services

Performance Review Board Membership

AGENCY: Centers for Medicare & Medicaid Services, HHS.

ACTION: Notice of Performance Review Board Membership.

FOR FURTHER INFORMATION CONTACT: Kathy Vaughn, 410-786-1050 or katherine.vaughn@cms.hhs.gov.

SUMMARY: 5 U.S.C. 4314(c)(1) through (5) requires each agency to establish, in accordance with regulations prescribed by the Office of Personnel Management, one or more Senior Executive Service (SES) Performance Review Boards.

The PRB shall review and evaluate the initial summary rating of a senior executive's performance, the executive's response, and the higher-level official's comments on the initial summary rating. In addition, the PRB will review and recommend executive performance bonuses and pay increases.

5 U.S.C. 4314(c)(4) requires the appointment of board members to be published in the Federal Register. The following persons comprise a standing roster to serve as members of the SES PRB for the Centers for Medicare & Medicaid Services:

Elisabeth Handley, Director, Office of Human Capital (serves as the Chair)

Demetrious Kouzoukas, Principal Deputy Administrator for Medicare

Karen Jackson, Deputy Chief Operating Officer

Jeffrey Wu, Deputy Director for Operations, Center for Consumer Information and Insurance Oversight

Jean Moody-Williams, Deputy Center Director, Center for Clinical Standards and Quality

Nancy O'Connor, Philadelphia Regional Administrator

Dated: October 16, 2018.
Elisabeth Handley,
Director, Office of Human Capital.

[FR Doc. 2018-23814 Filed 10-29-18; 8:45 am]

BILLING CODE 4120-01-P